NATIONAL SCIENCE FOUNDATION

Proposal Review Panel for Materials Research; Notice of Meeting

In accordance with the Federal Advisory Committee Act (Pub. L. 92-463 as amended), the National Science Foundation announces the following meeting:

Name: Site visit review of the Materials Research Science and Engineering Center (MRSEC) at Princeton University by the Division of Materials Research (DMR) #1203.

Dates & Times:

Sept 19, 2012; 6 p.m.-8:30 p.m.;

Sept 20, 2012; 7:15 a.m.-6:45 p.m.;

Sept 21, 2012; 7:15 a.m.-4:30 p.m.

Place: Princeton University, Princeton, NJ.

Type of Meeting: Part open.

Contact Person: Dr. Mary E. Galvin, Program Director, Materials Research Science and Engineering Centers Program, Division of Materials Research, Room 1065, National Science Foundation, 4201 Wilson Boulevard, Arlington, VA 22230, Telephone (703) 292-8562.

Purpose of Meeting: To provide advice and recommendations concerning further support of the MRSEC at Princeton University.

Agenda:

Wednesday, September 19, 2012

6 p.m.-7 p.m. Closed—Briefing of panel

7 p.m.-8:30 p.m. Open—Poster Session

Thursday, September 20, 2012

7:15 a.m.-4:30 p.m. Open-Review of the MRSEC

5 p.m.-6:45 p.m. Closed—Executive Session

Friday, September 21, 2012

7:15 a.m.-9:50 a.m. Closed—Executive Session

9:50 a.m.-4:30 p.m. Closed—Executive Session, Draft and Review Report

Reason for Late Notice: Due to scheduling conflicts and the necessity to proceed with the review.

Reason for Closing: The work being reviewed may include information of a proprietary or confidential nature, including technical information; financial data, such as salaries and personal information concerning individuals associated with the MRSEC. These matters are exempt under 5 U.S.C. 552 b(c), (4) and (6) of the Government in the Sunshine Act.

Dated: September 6, 2012.
Susanne Bolton,
Committee Management Officer.

[FR Doc. 2012-22375 Filed 9-10-12; 8:45 am]

BILLING CODE 7555-01-P